DEPARTMENT OF HOUSING AND URBAN DEVELOPMENT

[Docket No. FR-5121-N-30]

Notice of Proposed Information Collection: Comment Request; Automated Clearing House (ACH) Program Application—Title I Insurance Charge Payments System

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comments Due Date: November 16, 2007.

ADDRESSES: Interested persons are invited to submit comments regarding this proposal. Comments should refer to the proposal by name and/or OMB Control Number and should be sent to: Lillian L. Deitzer, Reports Management Officer, Department of Housing and Urban Development, 451 7th Street, SW., L'Enfant Plaza Building, Room 8001, Washington, DC 20410 or Lillian.L.Deitzer@hud.gov.

FOR FURTHER INFORMATION CONTACT: Lester J. West, Director, Financial Operations Center, Department of Housing and Urban Development, 52 Corporate Circle Albany, NY 12203 telephone (518) 464-4200 x 2806 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Automated Clearing House (ACH) Program Application—Title I Insurance Charge Payments System.

OMB Control Number, if applicable: 2502-0512.

Description of the need for the information and proposed use: This information collection is used to collect data to establish an electronic premium payment method for the Title I Program. This information collection is designed to process the collection of Title I insurance charges electronically in lieu of sending checks and other payment instruments by mail.

Agency form numbers, if applicable: HUD-56150.

Estimation of the total numbers of hours needed to prepare the information collection including number of respondents, frequency of response, and hours of response: The annual number of respondents is 50 for the Automated Clearing House Program Application. The estimated time required for each response is 15 minutes. The frequency of response is on occasion. The total estimated burden hours are 13.

Status of the proposed information collection: Extension of a currently approved collection.

Authority: Section 201.31 of the Title I Regulations, relating to payments of insurance charges, has been amended by the final rule that was established in the Federal Register at 60 FR 13854. This rule permits the Secretary to require Title I lenders to pay insurance charges through the ACH program.

Dated: September 4, 2007.
Frank L. Davis,
General Deputy Assistant Secretary for Housing—Deputy Federal Housing Commissioner.

[FR Doc. E7-18193 Filed 9-14-07; 8:45 am]

BILLING CODE 4210-67-P